DEPARTMENT OF ENERGY

Federal Energy Regulatory Commission

[Docket No. CP06-144-000]

Houston Hub Storage and Transportation, L.P.; Notice of Petition

May 1, 2006.

Take notice that on April 24, 2006, Houston Hub Storage and Tranportation, L.P., 20333 State Highway 249, Suite 400, Houston, TX 77070, filed a petition for Exemption of Temporary Acts and Operations from Certificate Requirements, pursuant to Rule 207(a)(5) of the Commission's Rules of Practice and Procedure (18 CFR 385.207(a)(5)), and section 7(c)(1)(B) of the Natural Gas Act (15 U.S.C. 717(c)(1)(B)), seeking approval of an exemption from certificate requirements to perform temporary activities related to drilling and testing operations to determine the viability of developing a salt dome natural gas storage project in Liberty County, Texas, all as more fully set forth in the application on file with the Commission and open to public inspection. This filing may also be viewed on the Web at http://www.ferc.gov using the “eLibrary” link. Enter the docket number excluding the last three digits in the docket number field to access the document. For assistance, contact FERC at FERCOnlineSupport@ferc.gov or call toll-free (866) 208-3676 or TYY, (202) 502-8659.

Any questions regarding the petition should be directed to Joseph H. Fagan, Heller Ehrman LLP, 1717 Rhode Island Ave., NW.; Washington, DC 20036-3001 and Phone: 202-912-2162; Fax: 202-912-2020.

There are two ways to become involved in the Commission's review of this project. First, any person wishing to obtain legal status by becoming a party to the proceedings for this project should, on or before the comment date stated below, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

Persons who wish to comment only on the environmental review of this project should submit an original and two copies of their comments to the Secretary of the Commission. Environmental commentors will be placed on the Commission's environmental mailing list, will receive copies of the environmental documents, and will be notified of meetings associated with the Commission's environmental review process. Environmental commentors will not be required to serve copies of filed documents on all other parties. However, the non-party commentors will not receive copies of all documents filed by other parties or issued by the Commission (except for the mailing of environmental documents issued by the Commission) and will not have the right to seek court review of the Commission's final order.

The Commission strongly encourages electronic filings of comments protests and interventions via the Internet in lieu of paper. See 18 CFR 385.2001(a) (1) (iii) and the instructions on the Commission's Web (http://www.ferc.gov) site under the “e-Filing” link.

Comment Date: May 10, 2006.

Magalie R. Salas,
Secretary.

[FR Doc. E6-6902 Filed 5-5-06; 8:45 am]

BILLING CODE 6717-01-P